DEPARTMENT OF HEALTH AND HUMAN SERVICES

Office of the Secretary

[Document Identifier: HHS-OS-19606-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit an Information Collection Request (ICR), described below, to the Office of Management and Budget (OMB). The ICR is for extending the use of the approved information collection assigned OMB control number 0990-0221, which expires on January 31, 2014. Prior to submitting that ICR to OMB, OS seeks comments from the public regarding the burden estimate, below, or any other aspect of the ICR.

DATES: Comments on the ICR must be received on or before July 19, 2013.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-19606-60D for reference.

Information Collection Request Title: Family Planning Annual Report: Forms and Instructions

OMB No.: 0990-0221

Abstract: The Office of Population Affairs (OPA), Office of the Assistant Secretary for Health (OASH), U.S. Department of Health and Human Services (HHS) administers and oversees the Title X Family Planning Program. The Family Planning Annual Report (FPAR) is an annual reporting requirement for family planning services delivery projects (“Title X service grantees”) authorized and funded by the Title X Family Planning Program [“Population Research and Voluntary Family Planning Programs” (Pub. L. 91-572)], which was enacted in 1970 as Title X of the Public Health Service Act (Section 1001 of Title X of the Public Health Service Act, 42 United States Code 300). The Title X Family Planning Program is the only Federal grant program dedicated solely to providing individuals with comprehensive family planning and related preventive health services. The program's purpose is to assist individuals in determining the number and spacing of their children and is designed to provide access to contraceptive services, supplies, and information to all who want and need them. By law, priority is given to persons from low-income families (Section 1006[c] of Title X of the Public Health Service Act, 42 U.S.C. 300). The FPAR is the only source of annual, uniform reporting by all Title X service grantees. The FPAR provides consistent, national-, regional-, state-, and grantee-level data on the services provided and the characteristics of the individuals served. Note that there are no changes to the FPAR except minor corrections or clarifications to submission and reporting instructions or definitions. The estimated average hour burden has been reduced to 36 hours, which is 4 hours lower than the 40-hour estimate of the previous OMB submission.

Need and Proposed Use of the Information: OPA uses FPAR data to monitor compliance with statutory requirements and accountability and federal performance requirements for Title X family planning funds as required by the 1993 Government Performance and Results Act (GPRA) and HHS, to guide financial and program planning and evaluation, and to respond to inquiries about the program from policymakers and Congress.

Likely Respondents: Title X service grantees.

Burden Statement: Burden in this context means the time expended by persons to generate, maintain, retain, disclose, or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden-Hours
Form name | Number of respondents | Number of responses per respondent | Average burden per response (in hours) | Total burden hours
Family Planning Annual Report: Forms and Instructions | 93 | 1 | 36 | 3,348
Total | 93 | 1 | 36 | 3,348

OS specifically requests comments on (1) The necessity and utility of the proposed information collection for the proper performance of the agency's functions, (2) the accuracy of the estimated burden, (3) ways to enhance the quality, utility, and clarity of the information to be collected, and (4) the use of automated collection techniques or other forms of information technology to minimize the information collection burden.

Keith A. Tucker,
Information Collection Clearance Officer.

[FR Doc. 2013-11949 Filed 5-17-13; 8:45 am]

BILLING CODE 4150-28-P